DEPARTMENT OF LABOR

Employment and Training Administration

[TA-W-64,020]

American Multimedia, Inc., Burlington, NC; Notice of Affirmative Determination Regarding Application for Reconsideration

By application dated January 6, 2008, the petitioner requested administrative reconsideration of the negative determination regarding workers' eligibility to apply for Trade Adjustment Assistance (TAA) and Alternative Trade Adjustment Assistance (ATAA) applicable to workers and former workers of the subject firm. The determination was issued on December 17, 2008. The Notice of Determination will soon be published in the Federal Register.

The initial investigation resulted in a negative determination based on the finding that imports of replicated CD's, VHS, DVD's, and cassette tapes did not contribute importantly to worker separations at the subject firm and no shift of production to a foreign source occurred.

In the request for reconsideration, the petitioner provided additional information regarding the customers of the subject firm and alleged that the customers might have increased imports of CD's, VHS, DVD's, and cassette tapes.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 9th day of January 2009.
Elliott S. Kushner,
Certifying Officer, Division of Trade Adjustment Assistance.

[FR Doc. E9-649 Filed 1-14-09; 8:45 am]

BILLING CODE 4510-FN-P